DEPARTMENT OF LABOR

Occupational Safety and Health Administration

[Docket No. OSHA-2011-0065]

National Advisory Committee on Occupational Safety and Health (NACOSH)

AGENCY: Occupational Safety and Health Administration (OSHA), Labor.

ACTION: Announcement of meetings of the National Advisory Committee on Occupational Safety and Health (NACOSH) and NACOSH Work Groups.

SUMMARY: The National Advisory Committee on Occupational Safety and Health (NACOSH) will meet December 14 and 15, 2011, in Washington, DC. In conjunction with the committee meeting, NACOSH Work Groups will meet on December 14, 2011.

DATES: NACOSH meeting: NACOSH will meet from 1 to 5 p.m., Wednesday, December 14, 2011, and from 9 a.m. to 4:30 p.m. on Thursday, December 15, 2011.

NACOSH Work Group meetings: The NACOSH Work Groups will meet from 9 a.m. to noon, December 14, 2011.

Submission of comments, requests to speak, speaker presentations and requests for special accommodation: Comments, requests to speak at the NACOSH meeting, speaker presentations, and requests for special accommodations for the NACOSH and NACOSH Work Group meetings must be submitted (postmarked, sent, transmitted) by December 7, 2011.

ADDRESSES: NACOSH and NACOSH Work Group meetings: NACOSH and its Work Groups will meet in Room S-4215 A/B/C U.S. Department of Labor, 200 Constitution Avenue NW., Washington, DC 20210.

Submission of comments, requests to speak and speaker presentations: You must submit comments, requests to speak at the NACOSH meeting and speaker presentations, identified by the docket number for this Federal Register notice (Docket No. OSHA-2011-0065), by one of the following methods:

Electronically: You may submit materials, including attachments, electronically at http://www.regulations.gov, the Federal eRulemaking Portal. Follow the online instructions for making submissions.

Facsimile: If your submission, including attachments, does not exceed 10 pages, you may fax it to the OSHA Docket Office at (202) 693-1648.

Mail, express delivery, messenger or courier service: You may submit your materials to the OSHA Docket Office, Room N-2625, U.S. Department of Labor, 200 Constitution Avenue NW., Washington, DC 20210, telephone (202) 693-2350 (TTY (887) 889-5627). Deliveries (hand, express mail, messenger, courier service) are accepted during the Department of Labor's and OSHA Docket Office's normal business hours, 8:15 a.m. to 4:45 p.m., e.t., weekdays.

Requests for special accommodation: You may submit requests for special accommodations for the NACOSH and NACOSH Work Group meetings by hard copy, telephone, or email to Ms. Veneta Chatmon, OSHA, Office of Communications, Room N-3647, U.S. Department of Labor, 200 Constitution Avenue NW., Washington, DC 20210; telephone (202) 693-1999; email chatmon.veneta@dol.gov.

Instructions: All submissions must include the Agency name and docket number for this Federal Register notice (Docket No. OSHA-2011-0065). Because of security-related procedures, submission by regular mail may result in significant delay in receipt. Please contact the OSHA Docket Office for information about security procedures for making submissions. For additional information about submitting comments, requests to speak and speaker presentations see the SUPPLEMENTARY INFORMATION section of this notice.

Comments, requests to speak and speaker presentations, including personal information provided, will be placed in the public docket and may be available online. Therefore, OSHA cautions interested parties about submitting personal information such as Social Security numbers and birthdates.

FOR FURTHER INFORMATION CONTACT: For press inquiries: Mr. Frank Meilinger, OSHA, Office of Communications, U.S. Department of Labor, Room N3647, 200 Constitution Avenue NW., Washington, DC 20210; telephone (202) 693-1999; meilinger.francis2@dol.gov.

For general information: Ms. Deborah Crawford, OSHA, Directorate of Evaluation and Analysis, U.S. Department of Labor, Room N-3641, 200 Constitution Avenue NW., Washington, DC 20210; telephone (202) 693-1932; email crawford.deborah@dol.gov.

SUPPLEMENTARY INFORMATION

NACOSH Meeting

NACOSH will meet Wednesday, December 14, 2011, and Thursday December 15, 2011, in Washington, DC. NACOSH meetings are open to the public.

Section 7(a) of the Occupational Safety and Health Act of 1970 (OSH Act) (29 U.S.C. 651, 656) authorizes NACOSH to advise the Secretary of Labor and the Secretary of Health and Human Services on matters relating to the administration of the OSH Act. NACOSH is a continuing advisory body and operates in accordance with the OSH Act, the Federal Advisory Committee Act (5 U.S.C. App. 2), and regulations issued pursuant to those laws (29 CFR part 1912a, 41 CFR part 102-3).

The tentative agenda of the NACOSH meeting includes:

• Remarks from the Assistant Secretary of Labor for Occupational Safety and Health;

• Remarks from the Director of the National Institute for Occupational Safety and Health (NIOSH);

• NACOSH Work Group reports;

• Discussions on electronic health records;

• Discussions on prevention through design; and

• Public comments.

OSHA transcribes and prepares detailed minutes of NACOSH meetings. OSHA places meeting transcripts and minutes in the public record of the NACOSH meeting.

NACOSH Work Group Meetings

The Injury and Illness Prevention Programs and Recordkeeping Work Groups will meet in conjunction with the NACOSH meeting. Those Work Groups will meet from 9 a.m. to noon, December 14, 2011, and report back to the full committee at the December 15, 2011, NACOSH meeting.

Public Participation

NACOSH and NACOSH Work Group meetings: NACOSH and NACOSH Work Group meetings are open to the public. Individuals attending meetings at the U.S. Department of Labor must enter the building at the Visitors' Entrance, at 3rd and C Streets NW., and pass through Building Security. Attendees must have valid government-issued photo identification to enter the building. Please contact Ms. Crawford for additional information about building security measures for attending the NACOSH and NACOSH Work Group meetings.

Individuals needing special accommodations to attend NACOSH and NACOSH Work Group meetings should contact Ms. Chatmon (see ADDRESSES section).

Submission of written comments, requests to speak and speaker presentations: You must submit written comments, requests to speak at the NACOSH meeting and speaker presentations by December 7, 2011, using one of the methods listed in the ADDRESSES section. All submissions must include the Agency name and docket number for this Federal Register notice (Docket No. OSHA-2011-0065). OSHA will provide submissions to NACOSH members prior to the meeting.

Requests to speak must state the amount of time requested to speak, the interest the individual represents (e.g., organization name), if any, and a brief outline of the presentation. Electronic speaker presentations (e.g., PowerPoint) must be compatible with PowerPoint 2003 and other Microsoft 2003 formats. Requests to address NACOSH may be granted at the discretion of the NACOSH chair and as time permits.

Because of security-related procedures, submissions by regular mail may result in significant delay in receipt. Please contact the OSHA Docket Office for information about security procedures for making submissions by hand delivery, express delivery, messenger or courier service.

Public docket of the NACOSH meeting: OSHA places comments, requests to speak and speaker presentations, including any personal information you provide, in the public docket of this NACOSH meeting without change and documents may be available online at http://www.regulations.gov. Therefore, OSHA cautions you about submitting certain personal information such as Social Security numbers and birthdates.

OSHA also puts transcripts and minutes, Work Group reports and other documents from the NACOSH meeting in the public record of the NACOSH meeting. Although all submissions are listed in the http://www.regulations.gov index, some documents (e.g., copyrighted materials) are not publicly available to read or download through that Web page. All submissions, including copyrighted material, are available for inspection and copying at the OSHA Docket Office.

To read or download documents in the public docket of this NACOSH meeting go to Docket No. OSHA-2011-0065 at http://www.regulations.gov. For information on using http://www.regulations.gov to access the docket, click on the “Help” tab at the top of the Home page. Contact the OSHA Docket Office for information about materials not available through that Web page and for assistance in using the Internet to locate submissions and other documents in the public docket.

Electronic copies of this Federal Register notice are available at http://www.regulations.gov. This notice, as well as news releases and other relevant information, also are available on the OSHA Web page at http://www.osha.gov.

Authority and Signature

David Michaels, Ph.D., MPH, Assistant Secretary of Labor for Occupational Safety and Health, directed the preparation of this notice under the authority granted by Section 7 of the Occupational Safety and Health Act of 1970 (U.S.C. 656), the Federal Advisory Committee Act (5 U.S.C. App. 2); 29 CFR part 1912a; 41 CFR part 102-3; and Secretary of Labor's Order No. 4-2010 (75 FR 55355, 9/10/2010).

Signed at Washington, DC, on November 22, 2011.
David Michaels,
Assistant Secretary of Labor for Occupational Safety and Health.

[FR Doc. 2011-30565 Filed 11-28-11; 8:45 am]

BILLING CODE 4510-26-P